DEPARTMENT OF AGRICULTURE

Animal and Plant Health Inspection Service

[Docket No. 01-044-1]

Notice of Request for Reinstatement of an Information Collection

AGENCY: Animal and Plant Health Inspection Service, USDA.

ACTION: Reinstatement of approval of an information collection; comment request.

SUMMARY: In accordance with the Paperwork Reduction Act of 1995, this notice announces the Animal and Plant Health Inspection Service's intention to request a reinstatement of an information collection that it uses in preventing the introduction and spread of livestock and poultry diseases through the importation into the United States of restricted and controlled materials.

DATES: We invite you to comment on this docket. We will consider all comments that we receive by November 5, 2001.

ADDRESSES: Please send four copies of your comment (an original and three copies) to: Docket No. 01-044-1, Regulatory Analysis and Development, PPD, APHIS, Suite 3C03, 4700 River Road Unit 118, Riverdale, MD 20737-1238. Please state that your comment refers to Docket No. 01-044-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding regulations to prevent the introduction and spread of livestock and poultry diseases through the importation into the United States of restricted and controlled materials, contact Dr. Tracye Butler, Senior Staff Veterinarian, National Center for Import and Export, VS, APHIS, 4700 River Road Unit 40, Riverdale, MD 20737-1232; (301) 734-3277. For copies of more detailed information on the information collection, contact Mrs. Celeste Sickles, APHIS” Information Collection Coordinator, at (301) 734-7477.

SUPPLEMENTARY INFORMATION: Title: Importation of Restricted and Controlled Animal and Poultry Products and Byproducts, Organisms, and Vectors into the United States.

OMB Number: 0579-0015.

Type of Request: Reinstatement of an information collection.

Abstract: The United States Department of Agriculture (USDA) restricts and controls the importation of certain animal and poultry products and byproducts, organisms, and vectors to prevent the introduction and spread of livestock and poultry diseases into the United States.

To do this, we must collect information from a variety of individuals, both within and outside the United States, who are involved in handling, transporting, and importing these items. Collecting this information is critical to our mission of ensuring that these imported items do not present a disease risk to the livestock and poultry populations of the United States.

If these information collections are not conducted, the United States will be at increased risk of an exotic disease incursion. The introduction of such diseases as rinderpest, foot-and-mouth disease, hog cholera, African swine fever, swine vesicular disease, and exotic Newcastle disease would have an immeasurable impact upon the U.S. livestock and poultry industries, not only in the area of animal health, but also in the realm of international trade.

Collecting this information requires us to use a number of forms and documents, which are described below. We are asking the Office of Management and Budget (OMB) to approve our use of these information gathering tools for 3 years.

VS Form 16-25 (Application for Approval or Report of Inspection of Establishments Handling Restricted Animal Byproducts or Controlled Materials) is a dual purpose form. It is an application for those establishments requesting approval to handle restricted imported animal byproducts and controlled materials. It also serves as a report of inspections of establishments to ensure that restricted and controlled imports are being handled in compliance with our requirements.

VS Form 16-26 (Agreement for Handling Restricted Imports of Animal Byproducts and Controlled Materials) is a form signed by an operator of an establishment wishing to handle restricted or controlled materials in which the operator agrees to comply with all requirements for handling the restricted and controlled materials.

VS Form 16-3 (Application for Permit to Import Controlled Materials/Import or Transport Organisms or Vectors) is the application and agreement form used by individuals seeking a permit.

Certain sections of 9 CFR parts 94 and 95 specify that various categories of animal products, byproducts, and controlled materials may be imported into the United States if authorization for such importation has been granted by the Administrator, Animal and Plant Health Inspection Service (APHIS). Such permission is given only when the Administrator is satisfied that the importation will not constitute an undue risk to U.S. livestock and poultry.

Under 9 CFR part 122, organisms that present a disease risk to animals or poultry, or vectors of such disease agents, may not be imported or moved interstate without a permit issued by the U.S. Department of Agriculture. Part 122 specifies that importers must obtain such permits prior to the importation or interstate transport of the organism or vector.

Prospective importers may apply for import authorization by completing the appropriate sections of VS Form 16-3. APHIS personnel must have the essential data concerning the proposed importation in order to evaluate the request and determine what safeguard measures are appropriate in each case and to advise APHIS port and border personnel regarding clearance of arriving shipments.

Certificates. Under 9 CFR parts 94, 95, and 96, certain animal and poultry products must have a certificate from the national government of the exporting country to be eligible for importation into the United States. These certificates are required to verify that the animal or poultry products meet the sanitary requirements of our regulations (e.g., originated from disease-free animals and from animals native to the country of origin, or were prepared in a certain manner in an approved establishment).

The certificate accompanies each shipment to the United States. Upon arrival of the shipment, the certificate is presented to APHIS port inspectors who evaluate the information according to the permission authorization and 9 CFR parts 94, 95, and 96.

The certificate, signed by a full-time salaried veterinary official from the country of origin, or other authorized person, provides us with information that enables us to determine whether an article meets our requirements for importation.

Seals. Certain animal or poultry products and byproducts must be shipped in sealed containers or holds to ensure that the integrity of the shipment is not violated. The seals must be numbered, the numbers of the seals must be recorded on the government certificate that accompanies the shipment, and the seals must not have been tampered with. USDA inspectors at the port of entry inspect the seals and verify that the seals are intact and that the numbers match those on the certificates.

Compliance agreement, recordkeeping requirements. Certain animal or poultry products and byproducts are required to be processed in a certain manner in an establishment in a foreign country before being exported to the United States. We require an official of the processing plant to sign a written agreement prepared by APHIS. By signing this agreement, this official certifies that the animal products being exported to the United States have been processed in a manner approved by the USDA, and that adequate records of these exports are being maintained.

Marking requirements. Before certain animal products may enter the United States, they must be marked, with an ink stamp or brand, to indicate that the products have originated from an approved meat processing establishment and have been inspected by appropriate veterinary authorities. The mark is applied to the meat product by processing plant personnel.

Foreign meat inspection certificate for importation of fresh meat from regions free of FMD and rinderpest, but subject to certain restrictions due to their proximity to, or trading relationships with, regions where FMD or rinderpest exists. This certificate, completed by a veterinary official of the exporting region, provides specific information regarding the establishment where the animals were slaughtered, the origin of the animals, and the processing and handling of the meat or other animal products.

Certification of a national government for importation of pork or pork products from a swine vesicular disease-free region. This is a statement, completed by a government official of an exporting region, certifying the U.S.-destined pork or pork product originated in a region that is free from swine vesicular disease.

Cleaning and disinfecting methods. This is a letter from veterinary officials of an exporting region stating that appropriate cleaning and disinfecting methods have been applied to trucks, railroad cars, or other means of conveyance used to transport certain animal products destined for the United States.

The purpose of this notice is to solicit comments from the public (as well as affected agencies) concerning these information collection activities. These comments will help us:

(1) Evaluate whether the information collection is necessary for the proper performance of our agency's functions, including whether the information will have practical utility;

(2) Evaluate the accuracy of our estimate of the burden of the information collection, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 0.306554 hours per response.

Respondents: Importers, exporters, shippers, foreign animal health authorities, owner/operators of establishments that handle restricted and controlled materials.

Estimated annual number of respondents: 7,098.

Estimated annual number of responses per respondent: 8.0545224.

Estimated annual number of responses: 57,171.

Estimated total annual burden on respondents: 17,526 hours. (Due to averaging, the total annual burden hours may not equal the product of the annual number of responses multiplied by the reporting burden per response.)

All responses to this notice will be summarized and included in the request for OMB approval. All comments will also become a matter of public record.

Done in Washington, DC, this 30th day of August 2001.
Alfonso Torres,
Acting Administrator, Animal and Plant Health Inspection Service.

[FR Doc. 01-22403 Filed 9-5-01; 8:45 am]

BILLING CODE 3410-34-P